ENVIRONMENTAL PROTECTION AGENCY

40 CFR Part 131

[EPA-HQ-OW-2009-0596; FRL-9908-18-OW]

RIN 2040-AF50

Water Quality Standards for the State of Florida's Lakes and Flowing Waters; Withdrawal

AGENCY: Environmental Protection Agency (EPA).

ACTION: Proposed rule.

SUMMARY: The Environmental Protection Agency (EPA) is proposing to withdraw federal water quality standards applicable to waters of the state of Florida now that Florida has adopted and EPA has approved relevant state standards. On December 6, 2010, EPA published a rule finalizing numeric nutrient standards for Florida's lakes, springs, and flowing waters outside of the South Florida Nutrient Watershed Region. EPA established these water quality standards to protect Florida's Class I and III freshwaters from nitrogen and phosphorus pollution. On November 30, 2012, June 27, 2013, and September 26, 2013, EPA approved numeric nutrient standards adopted by the state of Florida for certain waters in the state.

Some of the water body types and provisions covered by state-adopted water quality standards were also included in EPA's final inland waters rule (criteria for Florida's lakes and springs, approaches to protect downstream lakes, and a provision for developing Site-Specific Alternative Criteria). EPA is now proposing to withdraw the overlapping federally-promulgated water quality standards to allow Florida to implement their state-adopted, EPA-approved water quality standards to address nutrient pollution in Florida's waters. Additionally, EPA is not finalizing three 2012 federal proposed rules related to nutrient pollution in Florida.

DATES: Comments must be received on or before June 2, 2014.

ADDRESSES: Submit your comments, identified by Docket ID No. EPA-HQ-OW-2009-0596, by one of the following methods:

1. www.regulations.gov: Follow the on-line instructions for submitting comments.

2. Email: ow-docket@epa.gov

3. Mail to: Water Docket, U.S. Environmental Protection Agency, Mail code: 2822T, 1200 Pennsylvania Avenue NW., Washington, DC 20460, Attention: Docket ID No. EPA-HQ-OW-2009-0596.

4. Hand Delivery: EPA Docket Center, EPA West Room 3334, 1301 Constitution Avenue NW., Washington, DC 20004, Attention Docket ID No. EPA-HQ-OW-2009-0596. Such deliveries are only accepted during the Docket's normal hours of operation, and special arrangements should be made for deliveries of boxed information.

Instructions: Direct your comments to Docket ID No. EPA-HQ-OW-2009-0596. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at a docket facility. The Office of Water (OW) Docket Center is open from 8:30 a.m. until 4:30 p.m., Monday through Friday, excluding legal holidays. The OW Docket Center telephone number is (202) 566-2426, and the Docket address is OW Docket, EPA West, Room 3334, 1301 Constitution Avenue NW., Washington, DC 20004. The Public Reading Room is open from 8:30 a.m. to 4:30 p.m., Monday through Friday, excluding legal holidays. The telephone number for the Public Reading Room is (202) 566-1744.

FOR FURTHER INFORMATION CONTACT: Erica Fleisig, U.S. EPA Headquarters, Office of Water, Mailcode: 4305T, 1200 Pennsylvania Avenue NW., Washington, DC 20460; telephone number: (202) 566-1057; email address: fleisig.erica@epa.gov.

SUPPLEMENTARY INFORMATION: This proposed rule is organized as follows:

I. General Information

A. Which water bodies are affected by this action?

B. What entities may be affected by this action?

C. What should I consider as I prepare my comments for EPA?

D. How can I get copies of this document and other related information?

II. Background

A. Background on EPA's Inland Rule, Amended Determinations, and Approval of State Criteria

B. 2014 District Court Ruling and Modification of Consent Decree

C. Proposed Withdrawal of Federal Criteria for Lakes, Springs, and DPVs

III. Statutory and Executive Order Reviews

A. Executive Orders 12866 (Regulatory Planning and Review) and 13563 (Improving Regulation and Regulatory Review)

B. Paperwork Reduction Act

C. Regulatory Flexibility Act

D. Unfunded Mandates Reform Act

E. Executive Order 13132 (Federalism)

F. Executive Order 13175 (Consultation and Coordination With Indian Tribal Governments)

G. Executive Order 13045 (Protection of Children From Environmental Health and Safety Risks)

H. Executive Order 13211 (Actions That Significantly Affect Energy Supply, Distribution, or Use)

I. National Technology Transfer Advancement Act of 1995

J. Executive Order 12898 (Federal Actions To Address Environmental Justice in Minority Populations and Low-Income Populations)

I. General Information

A. Which water bodies are affected by this action?

In this document, EPA is proposing to withdraw federally promulgated water quality standards (WQS) from a group of inland waters of the United States within Florida. Specifically, as defined below and in EPA's December 6, 2010 final inland waters rule (40 CFR 131.43), EPA is proposing to withdraw the federal criteria for Florida's Class I and III ¹ freshwater lakes and springs, as well as downstream protection values (DPVs) to protect downstream lakes and a provision for developing site-specific alternative criteria (SSAC) in all water bodies.

¹ Subsection 62-302.400(1), Florida Administrative Code (F.A.C.) provides as follows:

All surface waters of the state have been classified according to designated uses as follows:

CLASS I Potable Water Supplies

CLASS II Shellfish Propagation or Harvesting

CLASS III Fish Consumption; Recreation, Propagation and Maintenance of a Healthy, Well-Balanced Population of Fish and Wildlife.

EPA's final inland waters rule defined “Predominantly fresh waters” to mean surface waters in which the chloride concentration at the surface is less than 1,500 milligrams per liter (mg/L). EPA defined “Lake” as a slow-moving or standing body of freshwater that occupies an inland basin that is not a stream, spring, or wetland. Finally, EPA defined “Spring” as a site at which ground water flows through a natural opening in the ground onto the land surface or into a body of surface water.

B. What entities may be affected by this action?

This action proposes to withdraw federal WQS applicable to certain waters in Florida for which the state has adopted criteria that EPA has determined are consistent with the CWA and EPA's implementing regulations. Citizens concerned with water quality, as well as the state of Florida—who was previously required to implement federal numeric nutrient criteria before this withdrawal, but will no longer be required to do so after this withdrawal is finalized—may be interested in this rulemaking. Also, entities discharging nitrogen or phosphorus to waters of Florida may be interested in this rulemaking because WQS are used in determining National Pollutant Discharge Elimination System (NPDES) permit limits. If you have questions regarding the applicability of this action to a particular entity, consult the person listed in the preceding FOR FURTHER INFORMATION CONTACT section.

C. What should I consider as I prepare my comments for EPA?

1. Submitting CBI. Do not submit confidential business information (CBI) to EPA through http://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR Part 2.

2. Tips for Preparing Your Comments. When submitting comments, remember to:

• Identify the rulemaking by docket number and other identifying information (subject heading, Federal Register date, and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Make sure to submit your comments by the comment period deadline identified.

D. How can I get copies of this document and other related information?

1. Docket. EPA has established an official public docket for this action under Docket Id. No. EPA-HQ-OW-2009-0596. The official public docket consists of the document specifically referenced in this action, any public comments received, and other information related to this action. Although a part of the official docket, the public docket does not include CBI or other information whose disclosure is restricted by statute. The official public docket is the collection of materials that is available for public viewing at the OW Docket, EPA West, Room 3334, 1301 Constitution Ave. NW., Washington, DC 20004. This Docket Facility is open from 8:30 a.m. to 4:30 p.m., Monday through Friday, excluding legal holidays. The Docket telephone number is (202) 566-2426. A reasonable fee will be charged for copies.

2. Electronic Access. You may access this Federal Register document electronically through the EPA Internet under the “Federal Register” listings at http://www.epa.gov/fedrgstr/. An electronic version of the public docket is available through EPA's electronic public docket and comment system, EPA Dockets. You may use EPA Dockets at http://www.regulations.gov to view public comments, access the index listing of the contents of the official public docket, and access those documents in the public docket that are available electronically. For additional information about EPA's public docket, visit the EPA Docket Center homepage at http://www.epa.gov/epahome/dockets.htm. Although not all docket materials may be available electronically, you may still access any of the publicly available docket materials through the Docket Facility identified in Section I.D(1).

II. Background

A. Background on EPA's Inland Rule, Amended Determinations, and Approval of State Criteria

On December 6, 2010, pursuant to a January 14, 2009 EPA determination and December 30, 2009 consent decree, EPA published the inland waters rule to establish numeric nutrient criteria for Florida's lakes, springs, and flowing waters outside of the South Florida Nutrient Watershed Region.² These criteria also included three approaches for deriving DPVs, applicable to flowing waters at the point where they enter downstream lakes, which would ensure protection of downstream lakes as required by EPA's implementing regulations (40 CFR 131.10(b)).

² EPA defined the South Florida Nutrient Watershed Region as the area south of Lake Okeechobee, the Caloosahatchee River watershed (including Estero Bay) to the west of Lake Okeechobee, and the St. Lucie watershed to the east of Lake Okeechobee.

On November 30, 2012, EPA amended its January 14, 2009 determination stating that numeric criteria for downstream protection are not necessary to meet CWA requirements in Florida. This was because Florida's approach to downstream protection, in combination with nutrient criteria for nutrient-sensitive downstream water bodies, achieves timely and effective protection of downstream waters. With the additional clarification provided in Florida's “Implementation of Florida's Numeric Nutrient Standards” rule-referenced document on the scope of waters covered by state-adopted numeric nutrient criteria, EPA amended its January 2009 determination for a second time on June 28, 2013, concluding that numeric nutrient criteria are not necessary for a limited number of waters in the state of Florida (specifically, flowing waters in the South Florida Region, marine lakes, tidally-influenced flowing waters, and conveyances primarily used for water management purposes with marginal or poor stream habitat components).

These actions, coupled with EPA's November 30, 2012, June 27, 2013, and September 26, 2013 approvals of Florida's numeric nutrient criteria, result in Florida having EPA-approved numeric nutrient criteria for all fresh water lakes, springs, estuaries and coastal waters, and the majority of flowing waters in the state.

B. 2014 District Court Ruling and Modification of Consent Decree

On January 7, 2014, the U.S. District Court for the Northern District of Florida granted an EPA motion to modify the consent decree (Case No. 4:08-cv-324-RH, Florida Wildlife Fed'n v. McCarthy, 2014 WL 51360 (N.D. Fla. Jan. 7, 2014)). As a result of this ruling, EPA is no longer obligated to promulgate numeric nutrient criteria for any of Florida's waters, and will therefore not be finalizing its November 30, 2012 federal proposed rules addressing Florida's estuaries and coastal waters, inland waters in the South Florida Nutrient Watershed Region, and the remanded portions of the inland waters rule (77 FR 74923 and 77 FR 74985, December 18, 2012). In addition, EPA will no longer be finalizing its December 14, 2012 proposal to temporarily stay portions of the inland waters rule. EPA can now withdraw already promulgated federal criteria so Florida's nutrient criteria can take effect.

For more specifics on the Agency and court actions leading to this proposal, refer to the following:

EPA Determination Regarding Florida and Consent Decree: http://water.epa.gov/lawsregs/rulesregs/florida_consent.cfm.

Florida Adoption of Numeric Nutrient Criteria in 2012 and EPA Approval: http://www2.epa.gov/aboutepa/epa-florida.

EPA's 2012 Proposed Rulemaking: http://water.epa.gov/lawsregs/rulesregs/florida_index.cfm.

2013 EPA and FDEP Agreement in Principle and Path Forward: http://content.govdelivery.com/bulletins/gd/FLDEP-713cfb.

C. Proposed Withdrawal of Federal Criteria for Lakes, Springs, and DPVs

Florida now has state-adopted, EPA-approved criteria for lakes and springs that are applicable for CWA purposes. Thus there is no need for overlapping federal criteria for such waters. With respect to federal DPVs, EPA determined on November 30, 2012 that numeric criteria for downstream protection are not necessary in Florida and that same day approved Florida's quantitative downstream protection approach. Finally, since Florida has its own process for developing SSAC, a federal SSAC process is unnecessary. Thus, EPA is proposing to withdraw the federal criteria for lakes and springs, federal DPVs, and the federal SSAC provision that took effect on January 6, 2013 (with the exception of the federal SSAC provision that went into effect on February 4, 2011) and solicits comments on this proposal.

III. Statutory and Executive Order Reviews

A. Executive Order 12866 (Regulatory Planning and Review) and Executive Order 13563 (Improving Regulation and Regulatory Review)

This action is not a “significant regulatory action” under the terms of Executive Order 12866 (58 FR 51735, October 4, 1993) and is therefore not subject to review under Executive Orders 12866 and 13563 (76 FR 3821, January 21, 2011).

B. Paperwork Reduction Act

This rule does not impose any new information-collection burden because it is administratively withdrawing federal requirements that are no longer needed in Florida. It does not include any information-collection, reporting, or recordkeeping requirements.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business as defined by the Small Business Administration's (SBA) regulations at 13 CFR 121.201 (2) a small governmental jurisdiction that is a government of a city, county, town, school district or special district with a population of less than 50,000; and (3) a small organization that is any not-for-profit enterprise which is independently owned and operated and is not dominant in its field.

After considering the economic impacts of today's proposed rule on small entities, I certify that this action will not have a significant economic impact on a substantial number of small entities. This proposed rule will not impose any requirements on small entities. We continue to be interested in the potential impacts of the proposed rule on small entities and welcome comments on issues related to such impacts.

D. Unfunded Mandates Reform Act

This action contains no Federal mandates under the provisions of Title II of the Unfunded Mandates Reform Act of 1995 (UMRA), 2 U.S.C. 1531-1538 for state, local, or tribal governments or the private sector. The action imposes no enforceable duty on any state, local or tribal governments or the private sector. Therefore, this action is not subject to the requirements of sections 202 or 205 of the UMRA.

This action is also not subject to the requirements of section 203 of UMRA because it contains no regulatory requirements that might significantly or uniquely affect small governments. This rule proposes to remove federally-promulgated water quality standards addressing nutrient pollution in Florida in order to allow Florida to implement their state-adopted, EPA-approved water quality standards.

E. Executive Order 13132 (Federalism)

This action does not have federalism implications. It will not have substantial direct effects on the states, on the relationship between the national government and the states, or on the distribution of power and responsibilities among the various levels of government, as specified in Executive Order 13132. This rule proposes to remove federally-promulgated water quality standards addressing nutrient pollution in Florida in order to allow Florida to implement their state-adopted, EPA-approved water quality standards. Thus, Executive Order 13132 does not apply to this action.

In the spirit of Executive Order 13132, and consistent with EPA policy to promote communications between EPA and state and local governments, EPA specifically solicits comment on this proposed action from state and local officials.

F. Executive Order 13175 (Consultation and Coordination With Indian Tribal Governments)

This action does not have tribal implications, as specified in Executive Order 13175 (65 FR 67249, November 9, 2000). This rule imposes no regulatory requirements or costs on any tribal government. It does not have substantial direct effects on tribal governments, the relationship between the Federal government and Indian tribes, or on the distribution of power and responsibilities between the Federal government and Indian tribes. Thus, Executive Order 13175 does not apply to this action.

G. Executive Order 13045 (Protection of Children From Environmental Health and Safety Risks)

This rule is not subject to Executive Order 13045, entitled “Protection of Children from Environmental Health Risks and Safety Risks” (62 FR 19885, April 23, 1997), because it is not economically significant as defined in Executive Order 12866 and because the environmental health or safety risks addressed by this action do not present a disproportionate risk to children.

The public is invited to submit comments or identify peer-reviewed studies and data that assess effects of early life exposure.

H. Executive Order 13211 (Actions That Significantly Affect Energy Supply, Distribution, or Use)

This action is not subject to Executive Order 13211 (66 FR 28355 (May 22, 2001)), because it is not a significant regulatory action under Executive Order 12866.

I. National Technology Transfer and Advancement Act of 1995

Section 12(d) of the National Technology Transfer and Advancement Act of 1995 (“NTTAA”), Public Law 104-113, 12(d) (15 U.S.C. 272 note) directs EPA to use voluntary consensus standards in its regulatory activities, unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This proposed rulemaking does not involve technical standards. Therefore, EPA is not considering the use of any voluntary consensus standards.

J. Executive Order 12898—Federal Actions To Address Environmental Justice in Minority Populations and Low-Income Populations

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this proposed rule will not have disproportionately high and adverse human health or environmental effects on minority or low-income populations because: (1) Florida's WQS apply to waters across the state, and thus this action will not disproportionately affect any one group over another, and (2) EPA has previously determined, based on the most current science, that Florida's adopted and EPA-approved criteria are protective of human health and aquatic life.

List of Subjects in 40 CFR Part 131

Environmental protection, Florida, Nitrogen and phosphorus pollution, Nutrients, Water quality standards.

Dated: March 26, 2014.
Gina McCarthy,
Administrator.

For the reasons set out in the preamble, EPA proposes to amend 40 CFR part 131 as follows:

PART 131—WATER QUALITY STANDARDS

1. The authority citation for part 131 continues to read as follows:

Authority: 33 U.S.C. 1251 et seq.

Subpart D—Federally Promulgated Water Quality Standards

§ 131.43 [Removed]

2. Section 131.43 is removed.

[FR Doc. 2014-07387 Filed 4-1-14; 8:45 am]

BILLING CODE 6560-50-P